ENVIRONMENTAL PROTECTION AGENCY

[ER-FRL-8585-9]

Environmental Impacts Statements; Notice of Availability

Responsible Agency: Office of Federal Activities, General Information (202) 564-1399 or http://www.epa.gov/compliance/nepa/.

Weekly receipt of Environmental Impact Statements

Filed 09/15/2008 Through 09/19/2008

Pursuant to 40 CFR 1506.9.

EIS No. 20080364, Draft Supplement, NPS, GA, Chattahoochee River National Recreation Area General Management Plan, Updated Information on Analyzing Six Alternative Future Directions for the Management and Use of Chattachoochee River National Recreation Area, Implementation, Chattahoochee River, Atlanta, GA, Comment Period Ends: 11/10/2008, Contact: David Libman 404-562-3124 Ext. 685.

EIS No. 20080365, Draft EIS, NPS, NY, Fort Stanwix National Monument General Management Plan, Implementation, Funding, City of Rome, Oneida County, NY, Comment Period Ends: 11/25/2008, Contact: James O'Connell 617-223-5222.

EIS No. 20080366, Final EIS, AFS, MT, Butte Resource Management Plan, Implementation, Beaverhead, Broadwater, Deerlodge, Gallatin, Jefferson, Lewis and Clark, Silver Bow and Park Counties, MT, Wait Period Ends: 10/27/2008, Contact: Brenda Williams 202-452-5112.

EIS No. 20080367, Final EIS, FHW, UT, Mountain View Corridor (MVC) Project, Proposed Transportation Improvement 2030 Travel Demand in Western Salt Lake County south of I-80 and west of Bangerter Highway and in northwestern Utah County of I-15, south of the Salt Lake County Line, and north of Utah Lake, Salt Lake and Utah County, UT, Wait Period Ends: 10/27/2008, Contact: Edward Woolford 801-963-0182.

EIS No. 20080368, Final EIS, AFS, MT, Debaugan Fuels Reduction Project, Proposed Fuels Reduction Activities, Lolo National Forest, Superior Ranger District, Mineral County, MT, Wait Period Ends: 10/27/2008, Contact: Sharon Sweeney 406-822-4233.

EIS No. 20080369, Draft EIS, FAA, FL, Palm Beach International Airport Project, Construction and Operation of Proposed Airfield Improvements, Funding, Palm Beach County, FL, Comment Period Ends: 11/24/2008, Contact: Lindy McDowell 407-812-6331 Ext. 130.

EIS No. 20080370, Draft EIS, AFS, CA, Gemmill Thin Project, Proposal to Reduce the Intensity and Size of Future Wildfires, and to Maintain/Improve Ecosystem Function and Wildlife Habitat, Chanchellula Late-Successional Reserve, Shasta-Trinity National Forest, Trinity County, CA, Comment Period Ends: 11/10/2008, Contact: Bobbie A. Dimonte 530-226-2425.

EIS No. 20080371, Final EIS, FAA, TX, ADOPTION—Northwest Corridor Light Rail Transit Line (LRT) to Irving/Dallas/Fort Worth International Airport, Construction, Dallas County, TX, Contact: Peggy Wade 817-222-5697.

The U.S. Department of Transportation's Federal Aviation Administration (DOT/FAA) has ADOPTED the U.S. Department of Transportation's Federal Transit Administration FEIS #2080289, filed on 07/24/2008. DOT/FAA was a Cooperating Agency for the above project. Recirculation of the FEIS is not necessary under 40 CFR 1506.3(c).

EIS No. 20080372, Draft EIS, AFS, ID, Salmon-Challis National Forest (SCNF), Proposes Travel Planning and OHV Route Designation, Lemhi, Custer and Butte Counties, ID, Comment Period Ends: 11/25/2008, Contact: Karen Gallogly 208-756-5103.

EIS No. 20080373, Final EIS, FHW, NC, NC 12 Replacement of Herbert C. Bonner Bridge (Bridge No. 11) Revisions and Additions, over Oregon Inlet Construction, Funding, U.S. Coast Guard Permit, Special-Use-Permit, Right-of-Way Permit, U.S. Army COE Section 10 and 404 Permit, Dare County, NC, Wait Period Ends: 10/27/2008, Contact: John F. Sullivan III P.E. 919-747-7000.

EIS No. 20080374, Draft EIS, FAA, PA, Philadelphia International Airport (PHL) Capacity Enhancement Program (CEP) To Accommodate Current and Future Aviation Demand, Funding and U.S. Army COE Section 404 Permit, Philadelphia, PA, Comment Period Ends: 11/10/2008, Contact: Susan McDonald 717-730-2841.

EIS No. 20080375, Draft EIS, NOA, 00, Amendment 3 to the Northeast Skate Complex Fishery Management Plan, Implementation of New Management Measures to Rebuild Overfished Skate Stocks, End Overfishing of Skate Fisheries, Gulf of Maine (GOM), Georges Bank (GB), South New England and Mid-Atlantic Regions, Comment Period Ends: 11/10/2008, Contact: Tobey Curtis 978-281-9288.

EIS No. 20080376, Final EIS, NOA, CA, Cordell Bank, Gulf of the Farallones and Monterey Bay National Marine Sanctuaries, Proposes a Series of Regulatory Changes, Offshore of Northern/Central CA, Wait Period Ends: 10/27/2008, Contact: John Armor 301-713-3125.

EIS No. 20080377, Final EIS, AFS, MT, Sheppard Creek Post-Fire Project, Timber Salvage, Implementation, Flathead National Forest, Flathead and Lincoln Counties, MT, Wait Period Ends: 10/27/2008, Contact: Bryan Donner 406-758-3508.

EIS No. 20080378, Final EIS, COE, MD, Mid-Chesapeake Bay Island Ecosystem Restoration Integrated Feasibility Study, Using Uncontaminated Dredged Material from the Upper Chesapeake Bay Approach Channel to the Port of Baltimore to Restore and Protect Island Habitat in the Middle Portion of Chesapeake Bay, Dorchester County, MD, Wait Period Ends: 10/27/2008, Contact: Dr. Angie Sowers 410-962-7440.

EIS No. 20080379, Final EIS, AFS, NM, Santa Fe National Forest Plan Amendment for Oil & Gas Leasing and Roads Management, Implementation, San Juan Basin, Cuba Ranger District, NM, Wait Period Ends: 10/27/2008, Contact: Allen Fowler 505-438-7821.

EIS No. 20080380, Final EIS, AFS, CA.

Amended Notices

EIS No. 20080353, Draft Supplement, AFS, 00, Gypsy Moth Management in the United States: A Cooperative Approach, Proposing New Treatments that were not Available when the 1995 EIS was written, U.S., Comment Period Ends: 11/17/2008, Contact: William Oldland 304-285-1585.

Revision to FR Notice Published 09/19/2008: Extending Comment Period from 11/03/2008 to 11/17/2008.

Dated: September 23, 2008.
Robert W. Hargrove,
Director, NEPA Compliance Division, Office of Federal Activities.

[FR Doc. E8-22682 Filed 9-25-08; 8:45 am]

BILLING CODE 6560-50-P